DEPARTMENT OF ENERGY

Office of Energy Efficiency and Renewable Energy

Agency Information Collection Extension; Correction

AGENCY: Office of Energy Efficiency and Renewable Energy, U.S. Department of Energy.

ACTION: Notice and Request for comments; Correction.

SUMMARY: The Department of Energy (DOE) published a document in the Federal Register of May 24, 2011, pursuant to the Paperwork Reduction Act of 1995), announcing its intention to extend for three years, an information collection request with the Office of Management and Budget (OMB). This document corrects an error in that notice.

FOR FURTHER INFORMATION CONTACT: Benjamin Goldstein, Buy American Coordinator, Office of Energy Efficiency and Renewable Energy (EERE), Department of Energy, 1000 Independence Avenue, SW., Mailstop EE-2K, Washington, DC 20585 or by e-mail at BuyAmerican@ee.doe.gov.

Correction

In the Federal Register of Tuesday, May 24, 2011, in FR Doc. 2011-12718, please make the following correction:

On page 30143, under the heading SUPPLEMENTARY INFORMATION, (1) should read OMB No.: 1910-5152.

Issued in Washington, DC, on July 8, 2011.
Henry Kelly,
Acting Assistant Secretary EERE, U.S. Department of Energy.

[FR Doc. 2011-19886 Filed 8-4-11; 8:45 am]

BILLING CODE 6450-01-P